DEPARTMENT OF THE INTERIOR

Bureau of Reclamation

[RR03010000, 22XR0680A1, RX.18786000.5009000]

Notice of Intent To Prepare a Supplemental Environmental Impact Statement for December 2007 Record of Decision Entitled Colorado River Interim Guidelines for Lower Basin Shortages and Coordinated Operations For Lake Powell and Lake Mead

AGENCY: Bureau of Reclamation, Interior.

ACTION: Notice of intent; overview of proposed approach; request for comments.

SUMMARY: The Secretary of the Interior has directed the Bureau of Reclamation (Reclamation) to prepare a Supplemental Environmental Impact Statement (SEIS). The Supplement is to the December 2007 Record of Decision entitled Colorado River Interim Guidelines for Lower Basin Shortages and Coordinated Operations for Lake Powell and Lake Mead (2007 Interim Guidelines). The Secretary is directing this action because the existing operating guidelines are insufficient given current hydrology and reservoir conditions and in light of plausible low runoff conditions in the Colorado River Basin over the next four years. Through this Federal Register notice, Reclamation is providing an overview of the purpose and need for the SEIS, as well as its anticipated approach and timeframe for decisions on revised operating guidelines for Lake Powell and Lake Mead.

DATES: This Federal Register notice initiates the public-scoping process for the SEIS. Reclamation requests that the public submit comments concerning the scope of the analysis, potential alternatives, and identification of relevant information, and studies on or before December 20, 2022.

Reclamation will host two public webinars to summarize the content and purpose of this Federal Register notice and to receive oral comments:

• Tuesday, November 29, 2022, 10:00 a.m. to 12:00 p.m. MST.

• Friday, December 2, 2022, 11:00 a.m. to 1:00 p.m. MST.

ADDRESSES: Send written comments or questions regarding the proposed SEIS to Reclamation 2007 Interim Guidelines SEIS Project Manager, Upper Colorado Basin Region, 125 South State Street, Suite 8100, Salt Lake City, Utah 84138; or by email to CRinterimops@usbr.gov.

• The virtual meeting held on Tuesday, November 29, 2022, may be accessed at: https://teams.microsoft.com/dl/launcher/launcher.html?url=%2F_%23%2Fl%2Fmeetup-join%2F19%3Ameeting_MWIyNmE5MjYtMDU3Ny00M2NlLWI4MWUtOTk2NjQ0YzhjZWUz%40thread.v2%2F0%3Fcontext%3D%257b%2522Tid%2522%253a%25220693b5ba-4b18-4d7b-9341-f32f400a5494%2522%252c%2522Oid%2522%253a%2522388b569b-9117-49f0-b6f1-cd12ff0587b0%2522%257d%26anon%3Dtrue&type=meetup-join&deeplinkId=c4bdcf7e-39d2-40e8-9fee-98e31f947360&directDl=true&msLaunch=true&enableMobilePage=true&suppressPrompt=true.

• The virtual meeting held on Friday, December 2, 2022, may be accessed at: https://teams.microsoft.com/l/meetup-join/19%3ameeting_ODRjNWM1MzAtNmI4Zi00MDVkLWJlYjMtMzcxOGQwYWQ3ZjQ0%40thread.v2/0?context=%7b%22Tid%22%3a%220693b5ba-4b18-4d7b-9341-f32f400a5494%22%2c%22Oid%22%3a%22388b569b-9117-49f0-b6f1-cd12ff0587b0%22%7d.

For more information regarding the proposed SEIS and the virtual meetings, go to https://www.usbr.gov/ColoradoRiverBasin/SEIS.html.

FOR FURTHER INFORMATION CONTACT: Ms. Dedina Williams, Bureau of Reclamation, Lower Colorado Basin Region, at (702) 293-8010, or by email at dfwilliams@usbr.gov; or Ms. Marcie Bainson, Bureau of Reclamation, Upper Colorado Basin Region, at (801) 524-3604, or by email at mbainson@usbr.gov.

SUPPLEMENTARY INFORMATION: This document provides notice that Reclamation intends to prepare an SEIS and a modified Record of Decision for the 2007 Interim Guidelines. Reclamation is issuing this Federal Register notice pursuant to the National Environmental Policy Act of 1969, as amended (NEPA), 42 U.S.C. 4321 et seq.; the Council on Environmental Quality's (CEQ) regulations for implementing NEPA, 43 CFR parts 1500 through 1508; and the Department of the Interior's NEPA regulations, 43 CFR part 46. The Record of Decision for the 2007 Interim Guidelines is available at 73 FR 19873 (April 11, 2008).

Background

On August 16, 2022, the Department of the Interior announced: “Prolonged drought and low runoff conditions accelerated by climate change have led to historically low water levels in Lakes Powell and Mead. Over the last two decades, Department leaders have engaged with Colorado River Basin partners on various drought response operations. However, given that water levels continue to decline, additional action is needed to protect the System.” Recognizing that the Colorado River Basin is facing unprecedented risks, the development of revised operating guidelines for Lake Powell and Lake Mead represents one of many Departmental efforts underway to respond to the rapidly changing conditions in the Basin in order to better protect the System. (Available at https://www.doi.gov/pressreleases/interior-department-announces-actions-protect-colorado-river-system-sets-2023).

In a Federal Register notice published on June 24, 2022 (87 FR 37884), the Bureau of Reclamation noted the dire circumstances facing the Colorado River Basin: “The Colorado River Basin provides essential water supplies to approximately 40 million people, nearly 5.5 million acres of agricultural lands, and habitat for ecological resources across the Southwestern United States and Northwestern Mexico. The limited water supplies of the Colorado River are declining, and the Colorado River Basin is currently experiencing a prolonged period of drought and record-low runoff conditions resulting in historically low reservoir levels at Lake Powell and Lake Mead. The period from 2000 through 2022 is the driest 23-year period in more than a century and one of the driest periods in the last 1,200 years. Absent a change in hydrologic conditions, water use patterns, or both, Colorado River reservoirs will continue to decline to critically low elevations threatening essential water supplies across nine states in the United States and the Republic of Mexico (Mexico). It is foreseeable that without appropriate responsive actions and under a continuation of recent hydrologic trends, major Colorado River reservoirs could continue to decline to `dead pool'—elevations at which water cannot be regularly released from a reservoir—in coming years.” The June 24, 2022, Federal Register notice requested public input prior to initiating a scoping process on the proposed development of post-2026 Colorado River Operational Strategies for Lake Powell and Lake Mead Under Historically Low Reservoir Conditions. The SEIS announced in today's Federal Register notice does not interfere with, supplant, or supersede that separate post-2026 guidelines development process. Rather, this SEIS will inform and complement the development of post-2026 guidelines. Further, the dire hydrologic and climate conditions described in the June 2022 Federal Register notice also inform the need for the SEIS efforts announced in today's Federal Register notice.

In the June 2022 Federal Register notice, the Department anticipated the potential for the process initiated in this document: “While previous actions, especially the DCP [in 2019], were intended to preserve Reclamation's ability to undertake post-2026 planning with a stable system and avoid crisis planning, very dry hydrology since the adoption of the DCP has resulted in Lake Powell and Lake Mead nearing critically low elevations. Should the conditions continue or worsen, we recognize that in addition to post-2026 planning under the anticipated NEPA process(es), Reclamation may likely need to also prioritize implementation of near-term actions to stabilize the decline in reservoir storage and prevent system collapse. Reclamation has not yet determined what additional actions or processes may be required to address these near-term operational risks. It is anticipated that near-term response actions and development of post-2026 operations will need to proceed on parallel timelines.” 87 FR 37888 (June 24, 2022).

Over the past two years, the Department has undertaken a number of unprecedented actions to respond to the historic drought and low-runoff conditions in the basin that are being exacerbated by higher temperatures and the impacts of climate change. In particular, in both 2021 and 2022, additional releases from upstream reservoirs have been implemented to enhance water elevations at Lake Powell. In 2022, Reclamation implemented modifications to monthly releases from Glen Canyon Dam, and also reduced downstream annual volume releases by 480,000 acre-feet.

Furthermore, on October 20, 2022, the National Oceanic and Atmospheric Administration's Climate Prediction Center issued its U.S. Winter Outlook for the December 2022-Febuary 2023 period finding: “The greatest chances for drier-than-average conditions are forecast in portions of California, the Southwest, the southern Rockies,” and “[w]idespread extreme drought continues to persist across much of the West, the Great Basin, and central-to-southern Great Plains.” (Available at https://www.noaa.gov/news-release/us-winter-outlook-warmer-drier-south-with-ongoing-la-nina).

The Department currently lacks analyzed alternatives and measures that may be necessary to address such projected conditions. Recognizing the risks facing the Colorado River Basin, the Department has concluded that immediate development of additional operational alternatives and measures for Lake Powell and Lake Mead are necessary to ensure continued “operations that are prudent or necessary for safety of dams, public health and safety, other emergency situations . . . 2007 Interim Guidelines at Section 7.D,” published at 73 FR 19892 (April 11, 2008).

Through this Federal Register notice, Reclamation is initiating efforts to revise operating guidelines for the operation of Glen Canyon and Hoover Dams in 2023 and 2024 operating years in order to address the potential for continued low-runoff conditions in the Colorado River Basin. Reclamation has concluded that the potential impacts of low runoff conditions in the coming winter (2022-23) pose unacceptable risks to routine operations of Glen Canyon and Hoover Dams during the interim period (prior to Jan. 1, 2027) and, accordingly, modified operating guidelines need to be expeditiously developed. Development of modified operating guidelines will also inform potential operations in the 2025 and 2026 operating years; however, due to the critically low current reservoir conditions, and the potential for worsening drought, the Department recognizes that operational strategies for 2023-2024 may need to be further revisited for subsequent operating years. Given the potential risks to infrastructure and public health and safety, the Department will promptly identify and analyze modified operating guidelines to address current and foreseeable hydrologic conditions.

Purpose and Need

The purpose of the SEIS is to supplement the EIS completed in 2007 for the 2007 Interim Guidelines in order to modify operating guidelines for the operation of Glen Canyon and Hoover Dam to address historic drought and low runoff conditions in the Colorado River Basin. The need for the revised operating guidelines is based on the potential that continued low runoff conditions in the Colorado River Basin could lead Glen Canyon Dam to decline to critically low elevations impacting both water delivery and hydropower operations in 2023 and 2024. In order to ensure that Glen Canyon Dam continues to operate under its intended design, Reclamation may need to modify current operations and reduce Glen Canyon Dam downstream releases, thereby impacting downstream riparian areas and reservoir elevations at Lake Mead. Accordingly, in order to protect Hoover Dam operations, system integrity, and public health and safety, Reclamation also may need to modify current operations and reduce Hoover Dam downstream releases. Such revised Hoover Dam operations would, among other issues, address Section 7.B.4 of the 2007 Interim Guidelines as well as the commitments set forth in Section V.B.2 of Exhibit 1 to the Lower Basin Drought Contingency Plan Agreement (2019). Both the 2007 Interim Guidelines and the 2019 DCP contemplate the need for additional measures to protect Lake Mead elevations, with the DCP adding the commitment of participating Lower Basin DCP parties to “individual and collective action in the Lower Basin to avoid and protect against the potential for the elevation of Lake Mead to decline to elevations below 1,020 feet.” As noted above, Section 7.D of the 2007 Interim Guidelines contemplates that modified operating provisions may be required if “extraordinary circumstances arise. Such circumstances could include operations that are prudent or necessary for safety of dams, public health and safety, other emergency situations, or other unanticipated or unforeseen activities arising from actual operating experience.” The Department finds that such circumstances exist at this time.

Preliminary Proposed Action—Overview

Reclamation anticipates proposing modifications for the 2023 and 2024 period, and potentially for subsequent years, to the following sections of the 2007 Interim Guidelines published at 73 FR 19881 (April 11, 2008):

Section 2. Determination of Lake Mead Operation During the Interim

Period Reclamation anticipates revising Section 2.D (“Shortage Conditions”), including potential modifications to Sections 2.D.1.b and 2.D.1.c to decrease the quantity of water that shall be apportioned for consumptive use in the Lower Division States (Arizona, California, and Nevada). Any modifications to these sections would be based on current and anticipated reservoir and hydrologic conditions in the Colorado River Basin, including any potential modifications to Glen Canyon Dam operations pursuant to this SEIS.

Section 6. Coordinated Operation of Lake Powell and Lake Mead During the Interim Period

Reclamation anticipates revising Sections 6.C (“Mid-Elevation Release Tier”) and 6.D (“Lower Elevation Balancing Tier”) to modify and/or reduce the quantity of water released from Glen Canyon Dam. Any modifications to these sections would be based on current and anticipated reservoir and hydrologic conditions in the Colorado River Basin, including any potential modifications to Hoover Dam operations pursuant to this SEIS.

Section 7. Implementation of Guidelines

Reclamation anticipates revising Section 7.C (“Mid-Year Review) to allow for potential determinations in a mid-year review that would allow for reduced deliveries from Lake Mead pursuant to Section 2 of the 2007 Interim Guidelines.

The foregoing potential modifications to the 2007 Interim Guidelines are presented in this Federal Register notice only as a preliminary overview of the Proposed Action. Reclamation will carefully review the 2007 Interim Guidelines and will formally publish a Proposed Action in its forthcoming Draft SEIS, which is anticipated to be published in Spring 2023.

Preliminary Alternatives—Overview

For purposes of the NEPA process for the SEIS, Reclamation anticipates three primary alternatives will be considered:

• No Action—The No Action Alternative will describe the continued implementation of existing agreements that control operations of Glen Canyon and Hoover Dams. These include the 2007 Interim Guidelines and agreements adopted pursuant to the 2019 Colorado River Drought Contingency Plan Authorization Act (Pub. L. 116-14) (the 2019 Drought Contingency Plan (DCP) Act). Reclamation notes that intensive efforts are underway to facilitate water conservation actions in the Basin under a number of programs, including the recent Congressional prioritization of funding through 2026 for drought mitigation in western states, with priority given to the Colorado River Basin and other basins experiencing comparable levels of long-term drought. Public Law 117-169, at § 50233 (Aug. 16, 2022). The ongoing implementation and effectiveness of these efforts will inform the assessment of existing operations and agreements.

• Framework Agreement Alternative—This alternative would be developed as an additional consensus-based set of actions that would build on the existing framework for Colorado River Operations. This Alternative would likely build on commitments and obligations developed by the Basin States, Basin Tribes, and non-governmental organizations that were included in the 2019 DCP. This alternative would facilitate implementation of Section 7.B.2 of the 2007 Interim Guidelines.

• Reservoir Operations Modification Alternative—This alternative would be developed by Reclamation as a set of actions and measures adopted pursuant to Secretarial authority under applicable federal law. This alternative would likely be developed based on the Secretary's authority under federal law to manage Colorado River infrastructure, as necessary, and would consider any inadequacies or limitations of the consensus-based framework considered in the above alternative. This alternative would consider how the Secretary's authority could complement a consensus-based alternative that may not sufficiently mitigate current and projected risks to the Colorado River System reservoirs.

This Federal Register notice presents the foregoing potential alternatives only as a preliminary overview of the alternatives that will be analyzed in the DEIS. For planning purposes, Reclamation's analysis will assume that additional releases pursuant to the Drought Response Operating Agreement (DROA) will be administered according to the terms approved in the DCP Act, and that Reclamation will simultaneously pursue system conservation actions in the Upper and Lower Basins. Through the scoping process, Reclamation welcomes public input on how human health and safety considerations can be more expressly integrated into Colorado River operational decision-making, both in this SEIS and other future decision-making processes. Reclamation will carefully review the appropriate range of alternatives for review and will include appropriate alternatives for consideration in its forthcoming Draft SEIS, which is anticipated to be published in Spring 2023.

Summary of Expected Impacts

The SEIS will evaluate reasonably foreseeable impacts from proposed modifications to the 2007 Interim Guidelines. Impacts are not fully known at this time; impact analysis will build upon and utilize information described in the 2007 Final EIS and subsequent relevant analyses. The analysis in the SEIS may consider potential effects on wildlife, threatened and endangered species habitat, recreation, water supplies (agricultural, municipal, environmental), water resources, air quality, cultural resources, hydropower resources, social and economic conditions, and other resources and uses. Reclamation will use an interdisciplinary approach that incorporates the expertise of specialists in the relevant resource fields.

Schedule for the Decision-Making Process

Reclamation will provide additional opportunities for public participation consistent with the NEPA process, including an anticipated 45-day comment period on the draft SEIS. The draft SEIS is anticipated to be available for public review in Spring 2023 and the final SEIS is anticipated to be available with a Record of Decision, as appropriate, in late Summer 2023. This schedule will allow decisions to become effective for 2023-24 operations. During this process, the Secretary retains all applicable authority to operate Colorado River facilities to respond to emergency or other unforeseen conditions.

Lead and Cooperating Agencies

The Secretary is responsible for the operation of Glen Canyon Dam and Hoover Dam pursuant to applicable federal law. The Secretary is also vested with the responsibility of managing the mainstream waters of the lower Colorado River pursuant to federal law. This responsibility is carried out consistent with the body of compacts, treaties, statutes and other legal documents commonly referred to as “the Law of the River.” Reclamation, as the agency that is designated to act on the Secretary's behalf with respect to these matters, is the lead federal agency for the purposes of NEPA compliance for the development and implementation of the proposed SEIS interim guidelines.

During the preparation of the 2007 Interim Guidelines, five federal agencies were cooperating agencies for purposes of assisting with environmental analysis and preparation of the Final EIS. These cooperating agencies were the Bureau of Indian Affairs (BIA), the United States Fish and Wildlife Service (FWS), the National Park Service (NPS), Western Area Power Administration (Western), and the United States Section of the International Boundary and Water Commission (USIBWC). Reclamation anticipates inviting these same five agencies to serve as cooperating agencies for the purpose of this SEIS. Reclamation is committed to continue to work with the USIBWC to ensure that efforts under this SEIS are communicated and coordinated with the Republic of Mexico with the goal of continued alignment of operations and responsive actions in both the U.S. and Mexico.

Responsible Official

Consistent with the process and final determinations reached for the 2007 Interim Guidelines, the Secretary of the Interior is the deciding official for this undertaking.

Nature of Decision To Be Made

The Department anticipates the nature of the decision to be made will be revised reservoir operating guidelines, pursuant to appropriate revisions of the Record of Decision for the 2007 Interim Guidelines, for the operation of Glen Canyon and Hoover Dams in 2023 and 2024 operating years, and potentially subsequent years if necessary and appropriate, in order to address the likelihood for continued low-runoff conditions in the Colorado River Basin based on the best available scientific and technical information.

Additional Information

As noted in the June 2022 Federal Register notice, Reclamation anticipates initiating a NEPA process to develop the post-2026 operational strategies through a Federal Register notice of intent to prepare an EIS in early 2023. Nothing in today's Federal Register notice supersedes or displaces Reclamation's efforts in that upcoming process.

This SEIS addressing modified operating guidelines for the period prior to 2026 is necessary to address the unacceptably high risks facing the Colorado River Basin between now and the post-2026 period. Current conditions warrant the flexibility to modify operations before the post-2026 operational strategies are thoroughly identified, analyzed and ultimately adopted. In addressing operations for 2023-24, Reclamation is committed to using the best available information to develop near-term operating guidelines while longer-term approaches are developed. Reclamation anticipates using the work and analysis from this SEIS process to also inform operating guidelines for the 2025-26 period, which will also undergo any additional NEPA analysis as required. Lastly, separate from the development of the SEIS, Reclamation anticipates publishing an informational report in 2023 addressing potential methodologies to support assessments for evaporation, seepage and other system losses in the Colorado River Basin in future years. This information will assist in development of potential interim measures as well as the post-2026 operational strategies.

Public Disclosure of Comments

Before including your address, phone number, email address, or other personal identifying information in your comment, you should be aware that your entire comment—including your personal identifying information—may be made publicly available at any time.

While you can ask us in your comment to withhold your personal identifying information from public review, we cannot guarantee that we will be able to do so.

Tommy P. Beaudreau,
Deputy Secretary, Department of the Interior.

[FR Doc. 2022-25004 Filed 11-16-22; 8:45 am]

BILLING CODE 4332-90-P